DEPARTMENT OF TRANSPORTATION

Federal Aviation Administration

14 CFR Part 39

[Docket No. FAA-2008-0274; Directorate Identifier 2008-NM-038-AD]

RIN 2120-AA64

Airworthiness Directives; Boeing Model 757 Airplanes, Model 767 Airplanes, and Model 777-200 and -300 Series Airplanes

AGENCY: Federal Aviation Administration (FAA), DOT.

ACTION: Notice of proposed rulemaking (NPRM).

SUMMARY: We propose to adopt a new airworthiness directive (AD) for certain Boeing Model 757 airplanes, Model 767 airplanes, and Model 777-200 and -300 series airplanes. This proposed AD would require repetitive inspections for damage of the electrical terminal at the left and right flightdeck window # 1, and corrective actions if necessary. This proposed AD would also allow for replacing the flightdeck window # 1 with a new improved flightdeck window equipped with electrical connections, which would end the need for the repetitive inspections for that flightdeck window # 1. This proposed AD results from several reports of electrical arcs at the terminal blocks of the electrically heated flightdeck window # 1. In more than one of the incidents, the arcs resulted in open flames. We are proposing this AD to prevent smoke and fire in the cockpit, which could lead to loss of visibility, and injuries to or incapacitation of the flightcrew.

DATES: We must receive comments on this proposed AD by April 28, 2008.

ADDRESSES: You may send comments by any of the following methods:

• Federal eRulemaking Portal: Go to http://www.regulations.gov. Follow the instructions for submitting comments.

• Fax: 202-493-2251.

• Mail: U.S. Department of Transportation, Docket Operations, M-30, West Building Ground Floor, Room W12-140, 1200 New Jersey Avenue, SE., Washington, DC 20590.

• Hand Delivery: U.S. Department of Transportation, Docket Operations, M-30, West Building Ground Floor, Room W12-140, 1200 New Jersey Avenue, SE., Washington, DC 20590, between 9 a.m. and 5 p.m., Monday through Friday, except Federal holidays.

For service information identified in this AD, contact Boeing Commercial Airplanes, P.O. Box 3707, Seattle, Washington 98124-2207.

Examining the AD Docket

You may examine the AD docket on the Internet at http://www.regulations.gov; or in person at the Docket Management Facility between 9 a.m. and 5 p.m., Monday through Friday, except Federal holidays. The AD docket contains this proposed AD, the regulatory evaluation, any comments received, and other information. The street address for the Docket Office (telephone 800-647-5527) is in the ADDRESSES section. Comments will be available in the AD docket shortly after receipt.

FOR FURTHER INFORMATION CONTACT: Louis Natsiopolous, Aerospace Engineer, Systems and Equipment Branch, ANM-130S, FAA, Seattle Aircraft Certification Office, 1601 Lind Avenue, SW., Renton, Washington 98057-3356; telephone (425) 917-6478; fax (425) 917-6590.

SUPPLEMENTARY INFORMATION:

Comments Invited

We invite you to send any written relevant data, views, or arguments about this proposed AD. Send your comments to an address listed under the ADDRESSES section. Include “Docket No. FAA-2008-0274; Directorate Identifier 2008-NM-038-AD” at the beginning of your comments. We specifically invite comments on the overall regulatory, economic, environmental, and energy aspects of this proposed AD. We will consider all comments received by the closing date and may amend this proposed AD because of those comments.

We will post all comments we receive, without change, to http://www.regulations.gov, including any personal information you provide. We will also post a report summarizing each substantive verbal contact we receive about this proposed AD.

Discussion

We have received nine reports of electrical arcs at the terminal blocks of the flightdeck window #1. In more than one incident, the arcs resulted in open flames. An investigation showed that the electrical arcs are caused by loose terminal connections in the left and right flightdeck window # 1 that use screw and lug electrical heat terminations. Arcing occurs due to improper torque or cross-threading of the screw. The window was redesigned in 2004 to include electrical heat terminals that use pin and socket connections rather than screws and lugs. Electrical arcs at the terminal blocks of the flightdeck window # 1, if not corrected, could result in smoke and fire in the cockpit, and consequent loss of visibility, and injuries to or incapacitation of the flightcrew.

Relevant Service Information

We have reviewed the service bulletins listed in the table below.

Boeing Service Bulletins
Boeing Special Attention Service Bulletin | Boeing model
757-30-0019, Revision 1, dated December 19, 2007 | 757-200, -200CB, and -200PF series airplanes.
757-30-0020, Revision 1, dated December 19, 2007 | 757-300 series airplanes.
767-30-0039, dated December 5, 2007 | 767-200, -300, and -300F series airplanes.
767-30-0041, dated December 5, 2007 | 767-400ER series airplanes.
777-30-0012, Revision 2, dated December 19, 2007 | 777-200 and -300 series airplanes.

The service bulletins describe procedures for repetitive detailed inspections for damage (including arcing, loose terminal, or heat damage) of the electrical terminal (J5 terminal) at the left and right flightdeck window # 1, and corrective actions if necessary. The corrective actions are applying correct torque to a loose electrical connection, repairing damaged wiring, or installing a new window # 1. The service bulletins specify that the replacement window can either be a new or serviceable window that uses screws and lugs for the electrical connection, or a new window that uses pins and sockets for the electrical connections. For airplanes on which a new window that uses pins and sockets is installed, the service bulletins also specify changes to the related wire bundle. The service bulletins specify that installing a new window that uses pins and sockets would eliminate the need for the repetitive inspections.

FAA's Determination and Requirements of This Proposed AD

We are proposing this AD because we evaluated all relevant information and determined the unsafe condition described previously is likely to exist or develop in other products of the(se) same type design(s). This proposed AD would require accomplishing the actions specified in the service information described previously, except as discussed under “Difference Between the Proposed AD and the Service Information.”

Difference Between the Proposed AD and the Service Information

The service bulletins do not include inspection information for airplanes on which a screw is tightened as part of a corrective action. This proposed AD would specify doing the next detailed inspection within 500 flight hours after the tightening of the screw, and then repeating the inspection thereafter at intervals not to exceed 6,000 flight hours.

Costs of Compliance

We estimate that this proposed AD would affect 1,212 airplanes of U.S. registry. The following table provides the estimated costs for U.S. operators to comply with this proposed AD. The average labor rate is $80 per work hour.

Estimated Costs
Action | Work hours | Parts | Cost per product | Fleet cost
Inspection | 1 | None | $80, per inspection cycle | $96,960, per inspection cycle.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this proposed AD would not have federalism implications under Executive Order 13132. This proposed AD would not have a substantial direct effect on the States, on the relationship between the national Government and the States, or on the distribution of power and responsibilities among the various levels of government.

For the reasons discussed above, I certify this proposed regulation:

1. Is not a “significant regulatory action” under Executive Order 12866,

2. Is not a “significant rule” under the DOT Regulatory Policies and Procedures (44 FR 11034, February 26, 1979), and

3. Will not have a significant economic impact, positive or negative, on a substantial number of small entities under the criteria of the Regulatory Flexibility Act.

You can find our regulatory evaluation and the estimated costs of compliance in the AD Docket.

List of Subjects in 14 CFR Part 39

Air transportation, Aircraft, Aviation safety, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new AD:

Boeing: Docket No. FAA-2008-0274; Directorate Identifier 2008-NM-038-AD.

Comments Due Date

(a) We must receive comments by April 28, 2008.

Affected ADs

(b) None.

Applicability

(c) This AD applies to the airplanes identified in Table 1 of this AD, certificated in any category.

Table 1.—Airplanes Affected by This AD
Boeing model— | As identified in Boeing Special Attention Service Bulletin—
757-200, −200CB, and −200PF series airplanes | 757-30-0019, Revision 1, dated December 19, 2007.
757-300 series airplanes | 757-30-0020, Revision 1, dated December 19, 2007.
767-200, −300, and −300F series airplanes | 767-30-0039, dated December 5, 2007.
767-400ER series airplanes | 767-30-0041, dated December 5, 2007.
777-200 and −300 series airplanes | 777-30-0012, Revision 2, dated December 19, 2007.

Unsafe Condition

(d) This AD results from several reports of electrical arcs at the terminal blocks of the electrically heated flightdeck window #1. In more than one of the incidents, the arcs resulted in open flames. We are issuing this AD to prevent smoke and fire in the cockpit, which could lead to loss of visibility, and injuries to or incapacitation of the flightcrew.

Compliance

(e) Comply with this AD within the compliance times specified, unless already done.

Service Bulletin Reference

(f) The term “service bulletin,” as used in this AD, means the Accomplishment Instructions of the applicable service bulletin listed in Table 1 of this AD.

Inspection and Corrective Actions

(g) Within 500 flight hours after the effective date of this AD, do a detailed inspection for damage (including arcing, loose terminal, or heat damage) of the electrical terminal (J5 terminal) at the left and right flightdeck window #1, and do all applicable corrective actions, by accomplishing all the actions specified in Work Packages 1 and 2 of the applicable service bulletin. Do all applicable corrective actions before further flight. Except as provided by paragraph (h) of this AD, repeat the detailed inspection thereafter at intervals not to exceed 6,000 flight hours. Doing the replacement specified in paragraph (i) of this AD terminates the repetitive inspection requirements of this paragraph for the replaced flightdeck window #1.

(h) For airplanes on which a corrective action—either replacement with a new window #1 that uses screws and lugs for the electrical connections, or tightening a loose screw—is done in accordance with Work Package 1 or 2 of the service bulletin: Do the next detailed inspection within 500 flight hours after the corrective action, and repeat the inspection thereafter at intervals not to exceed 6,000 flight hours. Doing the replacement specified in paragraph (i) of this AD terminates the repetitive inspection requirements of this paragraph for the replaced flightdeck window #1.

Optional Terminating Action

(i) Replacing a flightdeck window #1 that uses screws and lugs for the electrical connections with a flightdeck window that uses pins and sockets for the electrical connections in accordance with Work Packages 3 or 4 of the service bulletin ends the repetitive inspection requirements of this AD for that window #1.

Actions Accomplished Previously

(j) Actions done before the effective date of this AD in accordance with the applicable service bulletin specified in Table 2 of this AD are acceptable for compliance with the corresponding requirements of this AD.

Table 2.—Acceptable Service Bulletins
Boeing Special Attention Service Bulletin | Revision level | Date
757-30-0019 | Original | July 19, 2006.
757-30-0020 | Original | July 19, 2006.
777-30-0012 | Original | April 15, 2004.
777-30-0012 | 1 | June 2, 2006.

Alternative Methods of Compliance (AMOCs)

(k)(1) The Manager, Seattle Aircraft Certification Office (ACO), FAA, ATTN: Louis Natsiopolous, Aerospace Engineer, Systems and Equipment Branch, ANM-130S, 1601 Lind Avenue, SW., Renton, Washington 98057-3356; telephone (425) 917-6478; fax (425) 917-6590; has the authority to approve AMOCs for this AD, if requested using the procedures found in 14 CFR 39.19.

(2) To request a different method of compliance or a different compliance time for this AD, follow the procedures in 14 CFR 39.19. Before using any approved AMOC on any airplane to which the AMOC applies, notify your appropriate principal inspector (PI) in the FAA Flight Standards District Office (FSDO), or lacking a PI, your local FSDO.

Issued in Renton, Washington, on March 5, 2008.
Ali Bahrami,
Manager, Transport Airplane Directorate, Aircraft Certification Service.

[FR Doc. E8-5011 Filed 3-12-08; 8:45 am]

BILLING CODE 4910-13-P